DEPARTMENT OF ENERGY

Federal Energy Regulatory Commission

Combined Notice of Filings #2

Take notice that the Commission received the following electric rate filings:

Docket Numbers: ER11-47-010; ER11-41-010; ER11-46-013; ER12-1540-008; ER12-1541-008; ER12-1542-008; ER12-1544-008; ER12-2343-008; ER13-1896-014; ER14-594-012; ER16-323-006; ER17-1930-002; ER17-1931-002; ER17-1932-002.

Applicants: Appalachian Power Company, AEP Retail Energy Partners LLC, AEP Energy Partners, Inc., Indiana Michigan Power Company, Kentucky Power Company, Kingsport Power Company, Wheeling Power Company, AEP Energy, Inc., AEP Generation Resources Inc., Ohio Power Company, Ohio Valley Electric Corporation, Public Service Company of Oklahoma, AEP Texas Inc., Southwestern Electric Power Company.

Description: Supplement to May 22, 2019 Notice of Non-Material Change in Status (Attachment B) of the AEP Companies, et al.

Filed Date: 12/5/19.

Accession Number: 20191205-5190.

Comments Due: 5 p.m. ET 12/26/19.

Docket Numbers: ER20-535-000.

Applicants: PacifiCorp.

Description: § 205(d) Rate Filing: BPA NITSA (SE Idaho Area) Rev 5 to be effective 12/1/2019.

Filed Date: 12/6/19.

Accession Number: 20191206-5093.

Comments Due: 5 p.m. ET 12/27/19.

Docket Numbers: ER20-536-000.

Applicants: California Independent System Operator Corporation.

Description: § 205(d) Rate Filing: 2019-12-06 EIM Implementation Agreement with Bonneville Power Administration to be effective 3/2/2020.

Filed Date: 12/6/19.

Accession Number: 20191206-5110.

Comments Due: 5 p.m. ET 12/27/19.

Docket Numbers: ER20-537-000.

Applicants: PJM Interconnection, L.L.C.

Description: § 205(d) Rate Filing: Amendment to 1st Revised ISA No. 1365, Queue #H21_W68/K11 (amend) to be effective 7/5/2005.

Filed Date: 12/6/19.

Accession Number: 20191206-5124.

Comments Due: 5 p.m. ET 12/27/19.

Docket Numbers: ER20-538-000.

Applicants: Southwestern Electric Power Company.

Description: § 205(d) Rate Filing: Restated and Amended Rayburn PSA to be effective 12/6/2019.

Filed Date: 12/6/19.

Accession Number: 20191206-5131.

Comments Due: 5 p.m. ET 12/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2019.
Nathaniel J. Davis, Sr.,
Deputy Secretary.

[FR Doc. 2019-26758 Filed 12-11-19; 8:45 am]

BILLING CODE 6717-01-P